DEPARTMENT OF LABOR

Employment and Training Administration

Agency Information Collection Activities; Comment Request; DOL-Only Performance Accountability, Information, and Reporting System (OMB Control Number 1205-0521)

ACTION: Notice.

SUMMARY: The Department of Labor's (DOL), Employment and Training Administration (ETA) is soliciting comments concerning a proposed revision to the authority to conduct the information collection request (ICR) titled, “DOL-only Performance Accountability, Information, and Reporting System.” This comment request is part of continuing Departmental efforts to reduce paperwork and respondent burden in accordance with the Paperwork Reduction Act of 1995 (PRA).

DATES: Consideration will be given to all written comments received by August 20, 2019.

ADDRESSES: A copy of this ICR with applicable supporting documentation, including a description of the likely respondents, proposed frequency of response, and estimated total burden, may be obtained free by contacting Andrea Hill by telephone at 202-693-3542 (this is not a toll-free number), TTY 1-877-889-5627 (this is not toll-free number), or by email at Apprenticeship.Grants-ETA@DOL.gov, with “Federal Register comment” in the subject line. Submit written comments about, or requests for a copy of, this ICR by:

• Mail or courier to

○ U.S. Department of Labor, Employment and Training Administration Office of Apprenticeship, 200 Constitution Avenue NW, Room C-5311, Washington, DC 20210;

• by email to:

○ Apprenticeship.Grants-ETA@DOL.gov.

Authority: 44 U.S.C. 3506 (c)(2)(A).

SUPPLEMENTARY INFORMATION: DOL, as part of continuing efforts to reduce paperwork and respondent burden, conducts a pre-clearance consultation to provide the general public and Federal agencies an opportunity to comment on proposed and/or continuing collections of information before submitting them to the Office of Management and Budget (OMB) for final approval. This consultation helps to ensure requested data can be provided in the desired format, reporting burden (time and financial resources) is minimized, collection instruments are clearly understood, and the impact of collection requirements can be properly assessed.

Section 116 of WIOA requires States that operate core programs of the publicly-funded workforce system to comply with common performance accountability requirements. As such, States that operate core programs must submit common performance data to demonstrate that specified performance levels are achieved.

The data collections in this ICR fulfill requirements in WIOA Sec. 116(d)(1), which mandates that the Secretaries of Labor and Education develop a template for the annual performance reports to be used by States, local boards, and eligible providers of training services for reporting on outcomes achieved by the WIOA core programs. Pursuant to WIOA sec. 116(d)(2), required annual data for the core programs include, among others, those related to primary performance indicators, participant counts and costs, and barriers to employment. These data collections also assist DOL in carrying out its mission under the National Apprenticeship Act. DOL proposes to amend the DOL-only information collection by making changes to the Participant Individual Record Layout (ETA-9172), and the (Program) Performance Report (ETA-9173-APPSHP) to facilitate State and grantee quarterly performance reporting. DOL is also adding a new information collection requirement to this ICR, the Apprenticeship Employer Record Layout. Particularly, as part of its effort to streamline program performance reporting, DOL is adding the performance information collection requirements for ETA grants with significant apprenticeship components as a primary goal of the program (Apprenticeship Grants).

This notice includes the ETA (Program) Performance Report specifically for Apprenticeship Grants, the Participant Individual Record Layout (PIRL), and the Apprenticeship Employer Record Layout. The DOL requires States and grantees to certify and submit the ETA (Program) Performance Report to ETA on a quarterly basis. ETA will aggregate the information the States and grantees submit through the PIRL to populate the ETA (Program) Performance Report. In addition, DOL is seeking approval to require grantees to certify and submit the Apprenticeship Employer Record Layout to ETA on a quarterly basis.

The ETA (Program) Performance Report has been designed to maximize the value of the reports for workers, jobseekers, employers, local elected officials, State officials, Federal policymakers, and other key stakeholders. The PIRL has been designed to reflect the specific requirements of the annual reports as described in WIOA section 116(d)(2) through (4).

ETA will use the data to track total participants, characteristics, services, training strategies and outcomes for employed, unemployed and long-term unemployed participants. This data collection format permits program offices to evaluate program effectiveness, monitor compliance with statutory requirements, and analyze participant activity and grantee performance while complying with OMB efforts to streamline Federal performance reporting.

Under WIOA section 116(d)(6), the Secretary of Labor is required to annually make available (including by electronic means), in an easily understandable format, (a) the State Annual Performance Reports containing the information described in WIOA section 116(d)(2) and (b) a summary of the reports, and the reports required under WIOA section 116(d)(6) (the State Performance, Local Area, and Eligible Training Provider Reports), to the Committee on Education and the Workforce of the House of Representatives and the Committee on Health, Education, Labor, and Pensions of the Senate.

The reports and other analyses of the data will be made available to the public through publication and other appropriate methods and to the appropriate congressional committees through copies of such reports. In addition, information obtained through the DOL-only Performance Accountability, Information, and Reporting System will be used at the national level during budget and allocation hearings for DOL compliance with the Government Performance and Results Act and other legislative requirements, and during legislative authorization proceedings.

As mentioned above, as part of DOL's effort to improve program performance reporting, DOL added the performance information collection requirements for Apprenticeship Grants to this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention DOL-only Performance Accountability, Information, and Reporting System OMB Control No. 1205-0521.

Submitted comments will also be a matter of public record to this ICR and posted on the internet, without redaction. DOL encourages commenters not to include personally identifiable information, confidential business data, or other sensitive statements/information in any comments. DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision to include the Apprenticeship Grants.

Title of Collection: DOL-only Performance Accountability, Information, and Reporting System.

Form: Participant Individual Record Layout (ETA-9172), (Program) Performance Report (ETA-9173-APPSHP), and Apprenticeship Employer Record Layout.

OMB Control Number: 1205-0521.

Affected Public: State, Local, and Tribal Governments; Individuals or Households; and Private Sector—businesses or other for-profits and not-for-profit institutions.

Estimated Number of Respondents: 17,583,145.

Frequency: Varies.

Total Estimated Annual Responses: 35,166,446.

Estimated Average Time per Response: Varies.

Estimated Total Annual Burden Hours: 9,808,425 hours.

Total Estimated Annual Other Cost Burden: $224,393,569.

Molly E. Conway,
Acting Assistant Secretary for Employment and Training.

[FR Doc. 2019-13162 Filed 6-20-19; 8:45 am]

BILLING CODE 4510-FR-P